ENVIRONMENTAL PROTECTION AGENCY

[FRL-9935-86-OAR]

Clean Air Act Advisory Committee (CAAAC): Notice of Meeting

AGENCY: Environmental Protection Agency (EPA).

ACTION: Notice of meeting.

SUMMARY: The Environmental Protection Agency (EPA) announces an upcoming public meeting of the Clean Air Act Advisory Committee (CAAAC). The EPA established the CAAAC on November 19, 1990, to provide independent advice and counsel to EPA on policy issues associated with implementation of the Clean Air Act of 1990. The Committee advises on economic, environmental, technical, scientific and enforcement policy issues.

DATES: The meeting will be held on November 18, 2015, tentatively from 8:30 a.m. to 4:30 p.m.

ADDRESSES: The CAAAC will hold its face-to-face meeting at the Hyatt Regency Crystal City hotel, 2799 Jefferson Davis Highway, Arlington, VA 22202.

Inspection of Committee Documents: The committee agenda, confirmed times for the meetings, and any documents prepared for these meetings will be publicly available on the CAAAC Web site at http://www.epa.gov/oar/caaac/ prior to the meeting. Thereafter, these documents, together with CAAAC meeting minutes, will also be available on the CAAAC Web site or by contacting the Office of Air and Radiation Docket and requesting information under docket EPA-HQ-OAR-2004-0075. The docket office can be reached by email at: a-and-r-Docket@epa.gov or FAX: 202-566-9744.

FOR FURTHER INFORMATION CONTACT: For more information about the CAAAC, please contact Jim Ketcham-Colwill, Interim Designated Federal Officer (DFO), Office of Air and Radiation, U.S. EPA by email at ketcham-colwill.jim@epa.gov or by telephone at (202) 564-1676. Additional information about this meeting, the CAAAC, and its subcommittees and workgroups can be found on the CAAAC Web site: http://www.epa.gov/oar/caaac/.

For information on access or services for individuals with disabilities, please contact Lorraine Reddick at (202) 564-1293 or reddick.lorraine@epa.gov, preferably at least 10 days prior to the meeting to give EPA as much time as possible to process your request.

Dated: October 9, 2015.
Jim Ketcham-Colwill,
Interim Designated Federal Officer, Clean Air Act Advisory Committee, Office of Air and Radiation.

[FR Doc. 2015-26770 Filed 10-20-15; 8:45 am]

BILLING CODE 6560-50-P